FEDERAL COMMUNICATIONS COMMISSION

[CC Docket No. 99-200; FCC 06-14]

Numbering Resource Optimization

AGENCY: Federal Communications Commission.

ACTION: Notice.

SUMMARY: In this Order, the Federal Communications Commission grants petitions for delegated authority to implement mandatory thousands-block number pooling filed by the Public Service Commission of West Virginia, the Nebraska Public Service Commission, the Oklahoma Corporation Commission, the Michigan Public Service Commission, and the Missouri Public Service Commission. We find that the petitioners have demonstrated the special circumstances necessary to justify delegation of authority to require thousands-block number pooling. In granting these petitions, the Commission permits these states to optimize numbering resources and further extend the life of the numbering plan areas (“NPAs”) in question.

FOR FURTHER INFORMATION CONTACT: Marilyn Jones, Telecommunications Access Policy Division, Wireline Competition Bureau, at (202) 418-4357 or Marilyn.Jones@fcc.gov. The fax number is: (202) 418-2345.

SUPPLEMENTARY INFORMATION: This is a summary of the Commission's Order in CC Docket No. 99-200 released on February 24, 2006. The full text of this document is available for public inspection during regular business hours in the FCC Reference Center, Room CY-A257, 445 12th Street, SW., Washington, DC 20554.

I. Introduction

1. In this Order, the Federal Communications Commission grants petitions for delegated authority to implement mandatory thousands-block number pooling filed by the Public Service Commission of West Virginia, the Nebraska Public Service Commission, the Oklahoma Corporation Commission, the Michigan Public Service Commission, and the Missouri Public Service Commission. We find that the petitioners have demonstrated the special circumstances necessary to justify delegation of authority to require thousands-block number pooling. In granting these petitions, the Commission permits these states to optimize numbering resources and further extend the life of the numbering plan areas (“NPAs”) in question. Specifically, the Commission grants the following:

• To the Public Service Commission of West Virginia, the authority to implement mandatory thousands-block number pooling in the 304 NPA.

• To the Nebraska Public Service Commission, the authority to implement mandatory thousands-block number pooling in the 402 NPA.

• To the Oklahoma Corporation Commission, the authority to implement mandatory thousands-block number pooling in the 580 NPA.

• To the Michigan Public Service Commission, the authority to implement mandatory thousands-block number pooling in the 989 NPA.

• To the Missouri Public Service Commission, the authority to implement mandatory thousands-block number pooling in the 417, 573, 636, and 660 NPAs.

2. In the First Report and Order, 65 FR 37703, June 16, 2000, the Commission determined that implementation of thousands-block number pooling is essential to extending the life of the North American Numbering Plan (“NANP”) by making the assignment and use of NXX codes more efficient. Therefore, the Commission adopted national thousands-block number pooling as a valuable mechanism to remedy the inefficient allocation and use of numbering resources and determined to implement mandatory thousands-block pooling in the largest 100 MSAs within nine months of selection of a pooling administrator. The Commission also allowed state commissions to continue to implement thousands-block pooling pursuant to delegated authority and agreed to continue to consider state petitions for delegated authority to implement pooling on a case-by-case basis. The Commission delegated authority to the Common Carrier Bureau, now the Wireline Competition Bureau (“Bureau”), to rule on state petitions for delegated authority to implement number conservation measures, including thousands-block number pooling, where no new issues were raised.

3. The Commission held that such state petitions for delegated authority must demonstrate that: (1) An NPA in its state is in jeopardy; (2) the NPA in question has a remaining life span of at least a year; and (3) the NPA is in one of the largest 100 MSAs, or alternatively, the majority of wireline carriers in the NPA are local number portability (“LNP”)-capable. The Commission recognized that there may be “special circumstances” where pooling would be of benefit in NPAs that do not meet all three criteria, and may be authorized in such an NPA upon a satisfactory showing by the state commission of such circumstances. These three criteria were adopted before implementation of nationwide thousands-block number pooling and before the Commission recognized that full LNP capability is not necessary for participation in pooling.

4. National rollout of thousands-block number pooling commenced on March 15, 2002, in the 100 largest Metropolitan Statistical Areas (“MSAs”) and area codes previously in pooling pursuant to state delegation orders. All carriers operating within the 100 largest MSAs, except those specifically exempted by the order, were required to participate in thousands-block number pooling in accordance with the national rollout schedule. The Commission specifically exempted from the pooling requirement rural telephone companies and Tier III CMRS providers that have not received a specific request for the provision of LNP from another carrier, as well as carriers that are the only service provider receiving numbering resources in a given rate center. In exempting certain carriers from the pooling requirement, the Commission confirmed that “it is reasonable to require LNP only in areas where competition dictates its demand.” The Commission directed the North American Numbering Plan Administrator (“NANPA”) to cease assignment of NXX codes to carriers after they were required to participate in pooling. Instead, carriers required to participate in pooling received numbering resources from the national thousands-block number Pooling Administrator responsible for administering numbers in thousands-blocks.

5. In implementing nationwide pooling, the Commission had concluded that mandatory pooling should initially take place in the largest 100 MSAs. In the Pooling Rollout Order, the Bureau explained that it would consider extending pooling outside of the top 100 MSAs after pooling was implemented in the top 100 MSAs. The Bureau also encouraged voluntary pooling in areas adjoining qualifying MSAs.

II. The Petitions

6. Between October 20, 2004 and April 7, 2005, the Commission received five petitions from state utility commissions requesting permission to expand the scope of thousands-block pooling. The petitions are similar in that each state asserts that thousands-block pooling is a proactive measure to forestall area code exhaust in the area codes listed. In four of the states, there was an optional pooling mechanism that was being underutilized by the carriers. Accordingly, those state petitioners argued that mandatory thousands-block number pooling will likely postpone the need for area code relief in their respective NPAs. The petitions differ only with regard to specific jeopardy projections, which start within the first quarter of 2006. Specifically, the 304 NPA in West Virginia is projected to exhaust in the first quarter of 2006; the 402 NPA in Nebraska in the second quarter of 2006; the 580 NPA in Oklahoma in the second quarter of 2007; the 989 NPA in Michigan in the second quarter of 2008; and the 417 and 573 NPAs in Missouri in the second and third quarters of 2008, respectively, with the Missouri 636 and 660 NPAs facing accelerated exhaust due to their close proximity to the St. Louis and Kansas City MSAs.

7. On October 28, 2004, the Bureau released a public notice seeking comment on the Oklahoma Petition. On November 30, 2004, the Bureau released a public notice seeking comment on the West Virginia and Nebraska Petitions. On May 4, 2005, the Bureau released a public notice seeking comment on the Missouri and Michigan Petitions. Several parties filed comments and reply comments.

III. Order Granting Petitions

8. In the Order, the Commission grants petitions for delegated authority to implement mandatory thousands-block number pooling filed by the Public Service Commission of West Virginia, the Nebraska Public Service Commission, the Oklahoma Corporation Commission, the Michigan Public Service Commission, and the Missouri Public Service Commission. Although all three criteria are not consistently met in these petitions, we find that special circumstances justify delegation of authority to require pooling.

9. With respect to the first criterion, the petitions before us present both jeopardy and non-jeopardy situations. The 304 NPA is currently in jeopardy, whereas the 402, 417, 573, 580, and 989 NPAs are not in jeopardy as defined by industry standards, but are projected to exhaust within three years. Given that most of the NPAs in question are expected to exhaust within one to three years, it is most efficient and in the public interest to permit the state petitioners to implement mandatory thousands-block number pooling at this time. Moreover, if we deny these petitions pursuant to a strict application of the jeopardy requirement, the state commissions will have to refile the petitions in the near future when the NPAs at issue will be in jeopardy. This would be an inefficient use of resources and would further delay the state commissions' ability to optimize numbering resources. With regard to the second criterion, all petitions have demonstrated that the NPAs in question have a remaining life span of at least a year. Thus, this prong of the test is met.

10. The third criterion, that the NPA is in one of the largest 100 MSAs or the majority of wireline carriers in the NPA are LNP-capable, is not relevant here. These petitions seek authority to implement pooling outside of the largest 100 MSAs, and we have since determined that pooling can be implemented without full LNP capability. Instead, we are guided by the principle, expressed in our pooling precedent, that it is reasonable to require LNP only in areas where competition dictates demand. For this reason, we have exempted from pooling rural telephone companies and Tier III CMRS providers that have not yet received a specific request for the provision of LNP from another carrier and carriers that are the only service provider receiving numbering resources in a given rate center. Although this exemption should ensure that LNP is only required in areas where competition dictates demand, it is important to also note that, for carriers who are required to participate in number pooling, full LNP capability is not required. In this case, we require state commissions, in exercising the authority delegated herein to implement number pooling, to implement this delegation consistent with the exemption for the carriers described above. We therefore expect that rural carriers who are not LNP capable will not be required to implement full LNP capability solely as a result of the delegation of authority set forth herein.

11. As several commenters observe, allowing states to mandate pooling outside of the top 100 MSAs will delay the need for area code relief by using numbering resources more efficiently. Demand for numbering resources in these states is increasing in rural rate centers, where number pooling is not mandatory, due to additional wireless and competitive carriers entering those areas. The petitioners have demonstrated that many carriers are not participating in optional pooling and instead continue to request full NXX codes in these NPAs. The petitioners observe, and we agree, that mandatory thousands-block number pooling would extend the life of these NPAs by using the resources that otherwise would be stranded. Denying the petitions would allow carriers to continue to request 10,000 blocks of numbers when fewer numbers may be needed to serve their customers, which would further hasten the exhaust of these NPAs. We find that this is a special circumstance that permits us to delegate authority to these states to implement mandatory thousands-block number pooling.

12. Therefore, for all the reasons stated above, we determine that the petitioners have demonstrated the special circumstances necessary to justify delegation of authority to require pooling, and we grant: The Public Service Commission of West Virginia authority to implement mandatory thousands-block number pooling in the 304 NPA; the Nebraska Public Service Commission authority to implement mandatory thousands-block number pooling in the 402 NPA; the Oklahoma Corporation Commission authority to implement mandatory thousands-block number pooling in the 580 NPA; the Michigan Public Service Commission the authority to implement mandatory thousands-block number pooling in the 989 NPA; and the Missouri Public Service Commission the authority to implement mandatory thousands-block number pooling in the 417, 573, 636, and 660 NPAs.

13. The Ohio Commission and NARUC request that in addition to granting the Oklahoma Petition for mandatory thousands-block number pooling, we extend such delegated authority to all states. SBC opposes this request and observes that in order to adopt such a rule change, we must provide opportunity for notice and comment. We agree and do so in our Fifth Further Notice of Proposed Rulemaking, published elsewhere in this issue of the Federal Register.

14. Finally, we observe that several commenters asked the Commission to reaffirm that it will not permit states to implement pooling methods that are inconsistent with the national pooling framework set forth in the Commission's rules and industry pooling guidelines. We note that the petitions specifically seek authority to order mandatory thousands-block number pooling in rate centers located outside the top 100 MSAs, but in accordance with the national pooling framework. Thus, these state commissions are not seeking to implement pooling methods that are inconsistent with the national pooling framework.

IV. Ordering Clauses

15. Accordingly, pursuant to the authority contained in sections 1, 4(i), and 251 of the Communications Act of 1934, as amended, 47 U.S.C. 151, 154(i), 251, and pursuant to section 52.9(b) of the Commission's rules, 47 CFR 52.9(b), it is ordered that the Petition of the Nebraska Public Service Commission for Expedited Decision for Authority to Implement Additional Number Conservation Measures is granted; the Petition of the West Virginia Public Service Commission for Expedited Decision for Authority to Implement Additional Number Conservation Measures is granted; and the Petition of the Oklahoma Corporation Commission for Expedited Decision for Authority to Implement Additional Number Conservation Measures is granted; the Petition of the Missouri Public Service Commission for Additional Delegated Numbering Authority to Implement Number Conservation Measures is granted; and the Petition of the Michigan Public Service Commission for Additional Delegated Authority over Numbering Resource Conservation Measures is granted.

16. It is further ordered that, pursuant to the authority contained in sections 1, 4(i), 201-205, 214, 254, and 403 of the Communications Act of 1934, as amended, 47 U.S.C. 151, 154(i), 201-205, 214, 254, and 403, this Order and Fifth Further Notice of Proposed Rulemaking is adopted.

17. It is further ordered that the Commission's Consumer and Governmental Affairs Bureau, Reference Information Center, shall send a copy of this Order and Fifth Further Notice of Proposed Rulemaking, including the Initial Regulatory Flexibility Analysis, to the Chief Counsel for Advocacy of the Small Business Administration.

Federal Communications Commission.
Marlene H. Dortch,
Secretary.

[FR Doc. 06-2331 Filed 3-14-06; 8:45 am]

BILLING CODE 6712-01-P